DEPARTMENT OF COMMERCE

National Oceanic and Atmospheric Administration

[I.D. 032906A]

Endangered and Threatened Species; Take of Anadromous Fish

AGENCY: National Marine Fisheries Service (NMFS), National Oceanic and Atmospheric Administration (NOAA), Commerce.

ACTION: Applications for scientific research permits.

SUMMARY: Notice is hereby given that NMFS has received two scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on May 4, 2006.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR); threatened upper Willamette River (UWR).

Chum salmon (O. keta): threatened Columbia River (CR).

Steelhead (O. mykiss): threatened LCR; threatened UWR.

Coho salmon (O. kisutch): threatened LCR.

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1561

The EES Consulting, Inc. (EESC) is asking for a 3-year research permit to take juvenile LCR Chinook salmon, LCR coho salmon, and LCR steelhead in selected tributaries of the Cowlitz River in Washington. The research is designed to provide information on fish presence, abundance, distribution, and movement within the upper Cowlitz River. The research would benefit listed salmonids by providing baseline information about fish populations in areas affected by the Packwood Lake Hydroelectric Project, and that information, in turn, would be used during the Federal Energy Regulatory Commission's relicensing negotiations. The EESC proposes to observe fish and use backpack electrofishing equipment to capture them. The captured fish would be anesthetized, sampled for tissues and biological information, and released. The EESC does not intend to kill any fish being captured but some may die as an unintentional result of the research activities.

Permit 1562

The Oregon Department of Environmental Quality (ODEQ) is asking for a 5-year research permit to take juvenile LCR Chinook salmon, UWR Chinook salmon, LCR coho salmon, CR chum salmon, LCR steelhead, and UWR steelhead in the Willamette Basin, Oregon. The purpose of the research is to evaluate the overall ecological health of the region's streams by evaluating vertebrate and macroinvertebrate assemblages and comparing them to such assemblages in relatively unimpaired reference streams. The research would benefit listed species by allowing the ODEQ to more effectively assess the condition of habitat streams in the Willamette Basin. The information from the study would be used to guide listed species recovery planning and limiting factor analyses. The ODEQ proposes to capture fish using backpack, boat-, or raft-mounted electrofishing equipment or seines (beach or boat) measure them, check them for external pathology, and release them. The ODEQ does not intend to kill any fish being captured but some may die as an unintentional result of the research activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: March 30, 2006.
Angela Somma,
Chief, Endangered Species Division, Office of Protected Resources, National Marine Fisheries Service.

[FR Doc. E6-4843 Filed 4-3-06; 8:45 am]

BILLING CODE 3510-22-S